COMMITTEE FOR THE IMPLEMENTATION OF TEXTILE AGREEMENTS

Release From Embargo of Certain Chinese Textiles and Apparel Goods That Were Entered for Warehouse, Sent to General Order, or Admitted to a Foreign Trade Zone, Before November 8, 2005

AGENCY: Committee for the Implementation of Textiles Agreements (CITA).

ACTION: Directive to Commissioner, Bureau of Customs and Border Protection.

EFFECTIVE DATE: November 28, 2005.

FOR FURTHER INFORMATION CONTACT: Philip J. Martello, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

Pursuant to the Memorandum of Understanding between the Governments of the United States of America and the People's Republic of China Concerning Trade in Textile and Apparel Products, signed and dated November 8, 2005 (“Memorandum of Understanding”), CITA directs the U.S. Bureau of Customs and Border Protection to allow entry of certain goods in embargo.

In the letter published below, the Chairman of CITA directs the Commissioner, U.S. Customs and Border Protection, to allow entry, or withdrawal from warehouse, for consumption, from November 28 through December 2, 2005, of all Chinese origin goods that (1) currently are in a bonded warehouse within the customs territory of the United States or in a foreign trade zone established under the Foreign Trade Zones Act of 1934, as amended (19 U.S.C. 81a, et seq.); (2) were entered for warehouse or sent to General Order within the customs territory of the United States, or admitted to a foreign trade zone established under the Foreign Trade Zones Act of 1934, as amended, before November 8, 2005; and (3) were, at the time of export from China, subject to a quantitative restraint for one of the categories listed below, due to the application of Paragraph 242 of the Report of the Working Party for the Accession of China to the World Trade Organization.

Category | Restraint period
338/339 | May 23, 2005-December 31, 2005.
347/348 | May 23, 2005-December 31, 2005.
352/652 | May 23, 2005-December 31, 2005.
638/639 | May 27, 2005-December 31, 2005.
647/648 | May 27, 2005-December 31, 2005.

This release of certain embargoed goods excludes socks in categories 332/432/632part. See Memorandum of Understanding at n.3. Shipments allowed entry pursuant to the directive below will not be subject to staged entry limits.

Any other shipments of goods from China subject to the quantitative restraints for the categories and restraint periods above, or to other quantitative restraints for goods exported from China prior to January 1, 2006, shall remain subject to the restraints previously established, and to staged entry procedures as laid out in the directives dated April 21, 2005, and November 4, 2005. This includes socks and other categories not listed above, and any shipment exported from China on or after November 8, 2005. Shipments of any Chinese-origin textile or apparel goods exported before January 1, 2006 are not subject to the quantitative restraints established in Annex I of the Memorandum of Understanding of November 8, 2005. CITA will publish instructions to the U.S. Customs and Border Protection concerning those restraints in a separate notice.

Dated: November 23, 2005.
James C. Leonard III,
Chairman, Committee for the Implementation of Textile Agreements.

Committee for the Implementation of Textile Agreements

Commissioner, Bureau of Customs and Border Protection, Washington, DC 20229

Dear Commissioner: Pursuant to the Memorandum of Understanding between the Governments of the United States of America and the People's Republic of China, Concerning Trade in Textiles and Apparel Products, dated November 8, 2005, you are directed, effective on November 28, 2005, and for the period November 28, 2005 through December 2, 2005, to allow entry, or withdrawal from warehouse, for consumption Chinese origin goods that (1) currently are in a bonded warehouse within the customs territory of the United States or in a foreign trade zone established under the Foreign Trade Zones Act of 1934, as amended (19 U.S.C. S 81a, et seq.), and (2) were entered for warehouse or sent to General Order within the customs territory of the United States, or admitted to a foreign trade zone established under the Foreign Trade Zones Act of 1934, as amended, before November 8, 2005; and (3) were, at the time of export from China, subject to a quantitative restraint for one of the categories listed below, due to the application of Paragraph 242 of the Report of the Working Party for the Accession of China to the World Trade Organization.

Category | Restraint period
338/339 | May 23, 2005-December 31, 2005.
347/348 | May 23, 2005-December 31, 2005.
352/652 | May 23, 2005-December 31, 2005.
638/639 | May 27, 2005-December 31, 2005.
647/648 | May 27, 2005-December 31, 2005.

Shipments allowed entry pursuant to this directive will not be subject to staged entry limits. Any other shipments of goods from China subject to the quantitative restraints for the categories and restraint periods above, or to other quantitative restraints for goods exported from China prior to January 1, 2006, shall remain subject to the restraints previously established, and to staged entry procedures as laid out in the directives dated April 21, 2005, and November 4, 2005.

In carrying out the above direction, the Commissioner should construe the term “customs territory of the United States” to include only the States, the District of Columbia and Puerto Rico. CITA has determined that this action falls within the foreign affairs exception of the rulemaking provisions of 5 U.S.C. 553(a)(1).

Sincerely,

James C. Leonard III,

Chairman, Committee for the Implementation of Textile Agreements.

[FR Doc. 05-23454 Filed 11-23-05; 3:23 pm]

BILLING CODE 3510-DS-P